GENERAL SERVICES ADMINISTRATION

[FMR Bulletin 2007-B4]

Federal Management Regulation; Federal Real Property Profile Summary Report

AGENCY: General Services Administration.

ACTION: Notice.

SUMMARY: In furtherance of FMR Bulletin 2006-B4, this notice announces the Fiscal Year (FY) 2006 release of the new version of the Federal Real Property Profile (FRPP) Summary Report, which provides an overview of the U.S. Government's owned and leased real property as of September 30, 2006. The FY 2006 FRPP Summary Report is now available.

EFFECTIVE DATE: August 6, 2007.

FOR FURTHER INFORMATION CONTACT: For clarification of content, contact Stanley C. Langfeld, Director, Regulations Management Division (MPR), General Services Administration, Washington, DC 20405; stanley.langfeld@gsa.gov, (202) 501-1737. Please cite FMR Bulletin 2007-B4.

SUPPLEMENTARY INFORMATION: The FY 2006 FRPP Summary Report provides summary-level data on worldwide real property owned and leased by the Federal Government. The reported data is pulled from the FRPP inventory system, which is a centralized, comprehensive, and descriptive database of the Government's real property portfolio, developed and managed by GSA in consultation with the Federal Real Property Council (FRPC).

The FY 2006 report marks the second reporting year for the governmentwide data elements designated by the FRPC as required by Executive Order 13327. All executive branch agencies are required to submit constructed asset-level data to the FRPP on an annual basis.

The FRPP system was re-engineered in FY 2005 and further enhanced in FY 2006 to meet the FRPC's information technology requirements. Agencies can use the FRPP applications to update portfolio information online and in real time, perform historical benchmarking, produce ad hoc reports, measure performance of real property assets, and identify unneeded and underutilized assets for disposal. The goals of the database are to: 1) improve decision-making with more accurate and reliable data; 2) provide the ability to benchmark Federal real property asset performance; and 3) centralize collection of key real property data elements into one Federal inventory database.

Dated: July 25, 2007.
Kevin Messner,
Acting Associate Administrator, Office of Governmentwide Policy.

General Services Administration

[FMR Bulletin 2007-B4]

Real Property

To: Heads of Federal Agencies

Subject: Federal Real Property Profile Summary Report

1. What is the purpose of this Bulletin?

This Bulletin announces the FY 2006 release of the Federal Real Property Profile (FRPP) Summary Report, an overview of the U.S. Government's owned and leased real property as of September 30, 2006.

2. What is the background?

a. On February 4, 2004, the President issued Executive Order (EO) 13327, “Federal Real Property Asset Management,” and established the Federal Real Property Council (FRPC) to oversee the Government's asset management planning process and to improve governmentwide real property performance. The EO requires the Administrator of General Services, in consultation with the FRPC, to develop and maintain a centralized inventory database, incorporating all key elements identified by the FRPC.

b. The goals of the centralized database are to: 1) improve decision-making with more accurate and reliable data; 2) provide the ability to benchmark Federal real property asset performance; and 3) centralize collection of key real property data elements into one Federal inventory database. The FRPP system was re-engineered in FY 2005 and further enhanced in FY 2006 to meet the FRPC's information technology requirements.

c. The FY 2006 report marks the second reporting year for the governmentwide data elements designated by the FRPC as required by Executive Order 13327. All executive branch agencies are required to submit constructed asset-level data to the FRPP on an annual basis. The FRPP is a secure, password-protected Web-based database that allows Federal real property managers to update real property data online and in real time, perform historical benchmarking, produce ad hoc reports, measure performance of real property assets, and identify unneeded and underutilized assets for disposal. The FRPP Summary Report provides information regarding Federal real property holdings to stakeholders.

3. How can we obtain a copy of the FRPP summary report?

The FY 2006 version of the FRPP Summary Report is posted on the GSA website at http://www.gsa.gov/realpropertyprofile. Hard copies of the report can be obtained by contacting the Asset Management Division (MPA), Office of Governmentwide Policy, General Services Administration, 1800 F Street, N.W., Washington, DC 20405.

4. Whom should we contact for further information regarding the FRPP?

For further information, contact Stanley C. Langfeld, Director, Regulations Management Division (MPR), Office of Governmentwide Policy, General Services Administration, at (202) 501-1737, or stanley.langfeld@gsa.gov.

[FR Doc. E7-15170 Filed 8-3-07; 8:45 am]

BILLING CODE 6820-RH-S